NATIONAL FOUNDATION ON THE ARTS AND THE HUMANITIES

Meetings of Humanities Panel

AGENCY: National Endowment for the Humanities.

ACTION: Notice of meetings.

SUMMARY: The National Endowment for the Humanities will hold eight meetings of the Humanities Panel, a federal advisory committee, during May, 2017. The purpose of the meetings is for panel review, discussion, evaluation, and recommendation of applications for financial assistance under the National Foundation on the Arts and Humanities Act of 1965.

DATES: See SUPPLEMENTARY INFORMATION section for meeting dates. The meetings will open at 8:30 a.m. and will adjourn by 5:00 p.m. on the dates specified below.

ADDRESSES: The meetings will be held at Constitution Center at 400 7th Street SW., Washington, DC 20506, unless otherwise indicated.

FOR FURTHER INFORMATION CONTACT: Elizabeth Voyatzis, Committee Management Officer, 400 7th Street SW., Room 4060, Washington, DC 20506; (202) 606-8322; evoyatzis@neh.gov.

SUPPLEMENTARY INFORMATION: Pursuant to section 10(a)(2) of the Federal Advisory Committee Act (5 U.S.C. App.), notice is hereby given of the following meetings:

1. Date: May 1, 2017.

This meeting will discuss applications for the Seminars for School Teachers grant program, submitted to the Division of Education Programs.

2. Date: May 2, 2017.

This meeting will discuss applications for the Institutes for School Teachers grant program, submitted to the Division of Education Programs.

3. Date: May 2, 2017.

This meeting will discuss applications on the subjects of Languages, Linguistics, and Text Analysis, for Digital Humanities Advancement Grants, submitted to the Office of Digital Humanities.

4. Date: May 3, 2017.

This meeting will discuss applications on the subject of Public Programs, for Digital Humanities Advancement Grants, submitted to the Office of Digital Humanities.

5. Date: May 8, 2017.

This meeting will discuss applications on the subject of Scholarly Communications, for Digital Humanities Advancement Grants, submitted to the Office of Digital Humanities.

6. Date: May 10, 2017.

This meeting will discuss applications on the subject of Education, for Digital Humanities Advancement Grants, submitted to the Office of Digital Humanities.

7. Date: May 11, 2017

This meeting will discuss applications for Level III Digital Humanities Advancement Grants, submitted to the Office of Digital Humanities.

8. Date: May 16, 2017.

This meeting will discuss applications for the Institutes for Advanced Topics in the Digital Humanities grant program, submitted to the Office of Digital Humanities.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: April 6, 2017.
Elizabeth Voyatzis,
Committee Management Officer.

[FR Doc. 2017-07255 Filed 4-10-17; 8:45 am]

BILLING CODE 7536-01-P